SOCIAL SECURITY ADMINISTRATION

Statement of Organization, Functions and Delegations of Authority

This statement amends Parts S of the Statement of the Organization, Functions and Delegations of Authority which covers the Social Security Administration (SSA). Notice is given that Chapter S is being amended to elevate the Office of the Deputy Commissioner of Social Security (SA) to an independent component within the Office of the Commissioner and to delineate the functional responsibilities of that Office. The new material and changes are as follows:

Section SA.10 The Office of the Commissioner—(Organization):

Delete:

B. The Office of the Deputy Commissioner of Social Security (SA).

Establish:

B. The Office of the Deputy Commissioner of Social Security (SAP).

Section SA.20 The Office the Commissioner—(Functions):

Delete in its entirety:

B. The Deputy Commissioner of Social Security (SA).

Establish:

B. The Deputy Commissioner of Social Security (SAP) assists the Commissioner in carrying out his/her responsibilities and performs other duties as the Commissioner may prescribe. As the agency's chief operating officer sets direction and oversees, through subordinate functional Deputy Commissioners, all aspects of the Agency's daily operations; continuously monitors and evaluates the Agency's performance and resource utilization; ensures that the components complete major functions and initiatives effectively, efficiently and timely; and communicates regularly with senior staff regarding matters about which the Deputy Commissioner has made assignments or about which there is Agency-level impact. At the direction of the Commissioner: oversees the development of the Agency's legislative and regulatory agenda; works with functional deputy commissioners in the development of significant policy directives and regulatory packages; and handles contacts and negotiations with key officials from other Government agencies on matters involving Agency policy, programs and operations that relate to the Executive Office of the President or other governmental bodies. The Deputy Commissioner provides leadership and oversight for the administration and management of information technology resources and budget; oversees development of policy for information technology infrastructure design and implementation and the development of customer focused Internet strategy for informational and transactional service delivery; provides oversight and direction for new/major business process redesign activity, including chairing executive steering committees which address cross-component issues/activities related to start-up, operation and implementation of business process changes; facilitates the development of the Agency's communications strategy and key messages; carries out a comprehensive and continuing program of public information and public relations, meeting with a wide array of internal and external stakeholders; chairs ad hoc internal executive steering groups to support and foster innovation and change management initiatives; carries out fully all delegation of authority functions in accordance with Agency policy; serves, as necessary, as the Agency's principal witness at congressional hearings involving Social Security related issues; serves as a member of the President's Management Council; serves as the Chair for the Executive Resources Board; and serves as the Secretary to the Social Security Board of Trustees.

The Chief Information Officer (CIO) is also located in the Office of the Deputy Commissioner but reports to the Commissioner of Social Security on statutorily defined CIO duties. In addition, the CIO will function as a key advisor to the Deputy Commissioner.

Dated: March 1, 2001.
William A. Halter,
Acting Commissioner of Social Security.

[FR Doc. 01-6320 Filed 3-13-01; 8:45 am]

BILLING CODE 4191-02-M